DEPARTMENT OF TRANSPORTATION

Research and Special Programs Administration

49 CFR Part 195

[Docket No. RSPA-01-9832]

RIN 2137-AD59

Pipeline Safety: Hazardous Liquid Pipeline Operator Annual Report Form

AGENCY: Office of Pipeline Safety, Research and Special Programs Administration, U.S. Department of Transportation.

ACTION: Notice of proposed rulemaking; extension of comment period.

SUMMARY: This notice extends the period for public comment from September 24, 2002, to November 22, 2002, on the Notice of Proposed Rulemaking (NPRM) published in the Federal Register on July 26, 2002, requiring an annual report for hazardous liquid pipeline operators (proposed form RSPA F7000-1.1).

DATES: Comments on the NPRM must be received by November 22, 2002.

ADDRESSES: You may submit written comments by mail or in person by delivering an original and two copies to the Dockets Facility, U.S. Department of Transportation, Room PL-401, 400 Seventh Street, SW., Washington, DC 20590-0001. Or, you may submit written comments to the docket electronically at the following Web address: http://dms.dot.gov. See the SUPPLEMENTARY INFORMATION section for additional filing information.

FOR FURTHER INFORMATION CONTACT: Roger Little by phone at (202) 366-4569, by e-mail at roger.little@rspa.dot.gov, or by mail at the Office of Pipeline Safety, Room 7128, 400 7th St. SW., Washington, DC, 20590, regarding the subject matter of this notice or to access comments in the docket.

SUPPLEMENTARY INFORMATION:

Filing Information, Electronic Access, and General Program Information

The Dockets facility is open from 10 a.m. to 5 p.m., Monday through Friday, except federal holidays. All comments should identify the docket number of this notice, RSPA-01-9832. You should submit the original and one copy. If you wish to receive confirmation of receipt of your comments, you must include a stamped, self-addressed postcard. To file written comments electronically, after logging onto http://dms.dot.gov, click on “Electronic Submission” and follow the instructions. You can read comments and other material in the docket at this Web address: http://dms.dot.gov. General information about our pipeline safety program is available at http://ops.dot.gov.

Background

On July 26, 2002, the Research and Special Programs Administration's Office of Pipeline Safety (RSPA/OPS) issued a NPRM (67 FR 48844) to require hazardous liquid pipeline operators to submit an annual report (proposed form RSPA F7000-1.1). The report form asks for information that RSPA/OPS does not currently collect, such as: breakout tank location and capacity; hazardous liquid pipeline mileage by State, diameter and decade installed. The report will be due March 15 of each year for the previous calendar year, aligning with the annual reporting schedule for natural gas pipeline operators. RSPA/OPS will use information from the report to more effectively compile national statistics on system inventory; analyze accidents; identify safety problems and potential solutions; and target inspections. The proposed form asks for information similar to information RSPA/OPS currently collects for natural gas pipelines. The proposed information collection is part of RSPA's/OPS's overall strategy for improving the quality of pipeline statistics and addresses a longstanding data gap in hazardous liquid pipeline inventory information.

On August 23, 2002, the American Petroleum Institute (API) and the Association of Oil Pipelines (AOPL) submitted a request on behalf of their pipeline members for a 60 day extension of the comment period. API and AOPL indicated that additional time would enable operators to better understand the type of data to be collected on the proposed hazardous liquid pipeline annual report and to determine whether operators are now collecting information that would meet the needs of OPS. Because most of the API and AOPL membership is affected by this rulemaking, and because an annual report has never been required of hazardous liquid pipeline operators, RSPA/OPS is extending the deadline for comments on this NPRM. Pursuant to 49 CFR 190.319, good cause has been shown by the petitioners for extension of the comment period, namely, API and AOPL. Extension of the comment period is consistent with the public interest and is granted to all persons.

Issued in Washington, DC, on September 16, 2002.
Stacey L. Gerard,
Associate Administrator for Pipeline Safety.

[FR Doc. 02-23837 Filed 9-18-02; 8:45 am]

BILLING CODE 4910-60-P